DEPARTMENT OF HEALTH AND HUMAN SERVICES

Indian Health Service

Request for Public Comment: 30-Day Proposed Information Collection: Indian Health Service Loan Repayment Program (LRP)

AGENCY: Indian Health Service, HHS.

ACTION: Notice and request for comments. Request for extension of approval.

SUMMARY: In compliance with section 3507(a)(1)(D) of the Paperwork Reduction Act of 1995, the Indian Health Service (IHS) is submitting to the Office of Management and Budget (OMB) a request for an extension of a previously approved collection of information titled, “IHS Loan Repayment Program (LRP)” (OMB Control Number 0917-0014), which expires July 31, 2015. This proposed information collection project was recently published in the Federal Register (80 FR 23558) on April 28, 2015, and allowed 60 days for public comment, as required by 44 U.S.C. 3506(c)(2)(A). The IHS received no comments regarding this collection. The purpose of this notice is to allow 30 days for public comment to be submitted directly to OMB.

A copy of the supporting statement is available at www.regulations.gov (see Docket ID IHS-2015-0003).

Proposed Collection: Title: 0917-0014, “Indian Health Service Loan Repayment Program.” Type of Information Collection Request: Extension of currently approved information collection, 0917-0014, “Indian Health Service Loan Repayment Program.” The LRP application is available in an electronically fillable and fileable format. Form(s): The IHS LRP Information Booklet contains the instructions and the application format. Need and Use of Information Collection: The IHS LRP identifies health professionals with pre-existing financial obligations for education expenses that meet program criteria who are qualified and willing to serve at, often remote, IHS health care facilities. Under the program, eligible health professionals sign a contract through which the IHS agrees to repay part or all of their indebtedness in exchange for an initial two-year service commitment to practice full-time at an eligible Indian health program. The LRP is necessary to augment the critically low health professional staff at IHS health care facilities.

Any health professional wishing to have their health education loans repaid may apply to the IHS LRP. A two-year contract obligation is signed by both parties, and the individual agrees to work at an eligible Indian health program location and provide health services to American Indian and Alaska Native individuals.

The information collected via the on-line application from individuals is analyzed and a score is given to each applicant. This score will determine which applicants will be awarded each fiscal year. The administrative scoring system assigns a score to the geographic location according to vacancy rates for that fiscal year and also considers whether the location is in an isolated area. When an applicant accepts employment at a location, the applicant in turn “picks-up” the score of that location. Affected Public: Individuals and households. Type of Respondents: Individuals.

The table below provides: Types of data collection instruments, Estimated number of respondents, Number of responses per respondent, Annual number of responses, Average burden hour per response, and Total annual burden hour(s).

Estimated Burden Hours
Data collection instrument(s) | Number of respondents | Number of responses per respondent | Average burden per response (in hours) | Total annual responses (in hours)
LRP Application | 816 | 1 | 1.5 | 1,224

There are no Capital Costs, Operating Costs, and/or Maintenance Costs to report.

Requests for Comments: Your comments and/or suggestions are invited on one or more of the following points:

(a) Whether the information collection activity is necessary to carry out an agency function;

(b) whether the agency processes the information collected in a useful and timely fashion;

(c) the accuracy of public burden estimate (the estimated amount of time needed for individual respondents to provide the requested information);

(d) whether the methodology and assumptions used to determine the estimates are logical;

(e) ways to enhance the quality, utility, and clarity of the information being collected; and

(f) how the newly created online application assists the applicant efficiently and effectively.

ADDRESSES: Submit comments to Jackie Santiago by one of the following methods:

• Mail: Jackie Santiago, Chief, Loan Repayment Program, 801 Thompson Avenue, TMP, STE 450, Rockville, MD 20852-1627.

• Phone: 301-443-2486.

• Email: Jackie.Santiago@ihs.gov.

• Fax: 301-443-4815.

To Request More Information on the Proposed Collection, Contact: Jackie Santiago through one of the following methods:

• Mail: Jackie Santiago, Chief, Loan Repayment Program, 801 Thompson Avenue, TMP, STE 450, Rockville, MD 20852-1627.

• Phone: 301-443-2486.

• Email: Jackie.Santiago@ihs.gov.

• Fax: 301-443-4815.

Comment Due Date: July 13, 2015. Your comments regarding this information collection are best assured of having full effect if received within 30 days of the date of this publication.

Dated: June 3, 2015.
Robert G. McSwain,
Acting Director, Indian Health Service.

[FR Doc. 2015-14234 Filed 6-10-15; 8:45 am]

BILLING CODE 4160-16-P